DEPARTMENT OF TRANSPORTATION

Federal Aviation Administration

14 CFR Part 39

[Docket No. 2003-NM-172-AD; Amendment 39-13739; AD 2004-15-05]

RIN 2120-AA64

Airworthiness Directives; BAE Systems (Operations) Limited Model BAe 146 and Avro 146-RJ Series Airplanes

AGENCY: Federal Aviation Administration, DOT.

ACTION: Final rule.

SUMMARY: This amendment adopts a new airworthiness directive (AD), applicable to certain BAE Systems (Operations) Limited Model BAe 146 and Avro 146-RJ series airplanes, that requires replacing the existing bellows inlet duct of the auxiliary power unit (APU) system with a new, improved rectangular metallic bellows inlet duct. This action is necessary to prevent air from the APU bay being ingested into the flight deck and passenger cabin resulting in poor air quality and, if the air is contaminated, possible incapacitation of the flightcrew and passengers. This action is intended to address the identified unsafe condition.

DATES: Effective August 31, 2004.

The incorporation by reference of certain publications listed in the regulations is approved by the Director of the Federal Register as of August 31, 2004.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain BAE Systems (Operations) Limited Model BAe 146 and Avro 146-RJ series airplanes was published in the Federal Register on May 27, 2004 (69 FR 30244). That action proposed to require replacing the existing bellows inlet duct of the auxiliary power unit (APU) system with a new, improved rectangular metallic bellows inlet duct.

Comments

Interested persons have been afforded an opportunity to participate in the making of this amendment. No comments were submitted in response to the proposal or the FAA's determination of the cost to the public.

Conclusion

The FAA has determined that air safety and the public interest require the adoption of the rule as proposed.

Cost Impact

The FAA estimates that 54 airplanes of U.S. registry will be affected by this AD, that it will take approximately 2 work hours per airplane to accomplish the required actions, and that the average labor rate is $65 per work hour. Required parts will cost approximately $4,500 per airplane. Based on these figures, the cost impact of the AD on U.S. operators is estimated to be $250,020, or $4,630 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-15-05 BAE Systems (Operations) Limited (Formerly British Aerospace Regional Aircraft): Amendment 39-13739. Docket 2003-NM-172-AD.

Applicability: Model 146 series airplanes with Modification HCM30027A, HCM36019A, or HCM30373A installed; and Model Avro 146-RJ series airplanes with Modification HCM36019A or HCM30373A installed; certificated in any category.

Compliance: Required as indicated, unless accomplished previously.

To prevent air from the auxiliary power unit (APU) bay being ingested into the flight deck and passenger cabin resulting in poor air quality and, if the air is contaminated, possible incapacitation of the flightcrew and passengers, accomplish the following:

Replacement of Rubber Bellows Inlet Duct

(a) Within 24 months or 4,000 flight cycles after the effective date of this AD, whichever is first: Replace the existing rubber bellows inlet duct and sealing configuration of the APU system, with a new, improved rectangular metallic bellows inlet duct, which incorporates an improved seal and clamp configuration, per the Accomplishment Instructions of BAE Systems (Operations) Limited Modification Service Bulletin SB.49-036-36019E, Revision 4, dated April 30, 2003. Although the service bulletin specifies to submit certain information to the manufacturer, this AD does not include such a requirement.

Alternative Methods of Compliance

(b) In accordance with 14 CFR 39.19, the Manager, International Branch, ANM-116, Transport Airplane Directorate, FAA, is authorized to approve alternative methods of compliance for this AD.

Incorporation by Reference

(c) The action shall be done in accordance with BAE Systems (Operations) Limited Modification Service Bulletin SB.49-036-36019E, Revision 4, dated April 30, 2003. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 1: The subject of this AD is addressed in British airworthiness directive 007-04-2003.

Effective Date

(d) This amendment becomes effective on August 31, 2004.

Issued in Renton, Washington, on July 9, 2004.
Kevin M. Mullin,
Acting Manager, Transport Airplane Directorate, Aircraft Certification Service.

[FR Doc. 04-16673 Filed 7-26-04; 8:45 am]

BILLING CODE 4910-13-P